DEPARTMENT OF THE INTERIOR

Fish and Wildlife Service

Notice of Availability of Draft Comprehensive Conservation Plan (CCP) and Associated Environmental Assessment (EA) for Hagerman National Wildlife Refuge (Refuge), Sherman, TX

AGENCY: Fish and Wildlife Service, Department of the Interior.

ACTION: Notice of availability.

SUMMARY: The U.S. Fish and Wildlife Service (Service) announces that the Draft Comprehensive Conservation Plan and Environmental Assessment is available for the Hagerman National Wildlife Refuge, Sherman, Texas. We prepared this CCP pursuant to the National Wildlife Refuge System Administration Act of 1966, as amended by the National Wildlife Refuge System Improvement Act of 1997(16 U.S.C. 668dd et seq.), and the National Environmental Policy Act of 1969 (42 U.S.C. 4321-4370d), and we describe how the Service intends to manage this Refuge over the next 15 years.

DATES: The Service will be open to written comments through November 28, 2005.

ADDRESSES: A copy of the CCP is available on compact disk or hard copy, and you may obtain a copy by writing: Yvette Truitt-Ortiz, Biologist/Natural Resource Planner, U.S. Fish and Wildlife Service, P.O. Box 1306, Albuquerque, NM 87103-1306. Requests may also be made via electronic mail to: yvette_truittortiz.fws.gov.

FOR FURTHER INFORMATION AND TO SEND COMMENTS CONTACT: Yvette Truitt-Ortiz, Biologist/Natural Resource Planner, 505-248-6452, or Johnny Beall, Refuge Manager, 903-786-2826.

SUPPLEMENTARY INFORMATION: The National Wildlife Refuge System Administration Act of 1966, as amended by the National Wildlife Refuge System Improvement Act of 1997 (16 U.S.C. 668dd-668ee et seq.) requires a CCP. The purpose in developing CCPs is to provide refuge managers with a 15-year strategy for achieving refuge purposes and contributing toward the mission of the National Wildlife Refuge System, consistent with sound principles of fish and wildlife science, conservation, legal mandates, and Service policies. In addition to outlining broad management direction on conserving wildlife and their habitats, the CCPs identify wildlife-dependent recreational opportunities available to the public, including opportunities for hunting, fishing, wildlife observation and photography, and environmental education and interpretation. We will review and update these CCPs at least every 15 years in accordance with the National Wildlife Refuge System Administration Act of 1966, as amended by the National Wildlife Refuge System Improvement Act of 1997, and the National Environmental Policy Act of 1969 (42 U.S.C. 4321-4370d).

Background: The Hagerman National Wildlife Refuge is an overlay project of the U.S. Army Corps of Engineers, and was established by Public Land Order 314 on February 9, 1946 “* * * for refuge and breeding ground purposes for migratory birds and other wildlife * * * reservation as a wildlife refuge * * * shall not interfere with any existing or future uses * * * in the operation and maintenance of the Denison Dam and Reservoir Project * * *.” Located in north-central Texas on the Big Mineral Arm of Lake Texoma, the 11,320 acre Refuge is comprised of uplands, farmland, marshland, and open water habitats. Management efforts focus on enhancing uplands and wetlands for migratory birds and other wildlife species.

The Draft CCP/EA addresses a range of topics including habitat and wildlife management, public use opportunities, land acquisition, invasive species control, administration and staffing for the Refuge. The key Refuge issues and how they are addressed in the plan alternatives are summarized below.

Alternative A is the current management, or what is currently offered at the Refuge. Alternative B is the proposed action. Alternative C would call for no active management on the Refuge.

Public Use Activities: Alternative A: The public use program would remain at current levels and no new facilities would be developed on the Refuge. Alternative B: The public use program would increase and/or enhance educational and outreach activities, recreational opportunities, community involvement, and improve public use facilities. Alternative C: The public use program would be discontinued.

Habitat Management: Alternative A: The Refuge would continue to maintain current level of wetland management activities. Alternative B: The Refuge will increase/expand habitat management activities for the benefit of wildlife species and for the enjoyment of the visiting public. Alternative C: Wetland areas would be allowed to dry up, forcing wildlife species to leave.

Refuge Land and Boundary Protection: Alternative A: The Refuge would maintain limited outreach to private landowners. Alternative B: The Refuge will seek partnerships with landowners and organizations to enhance or protect desirable habitat through easements, agreements, etc. Alternative C: The Refuge would not seek easement or agreements with interested individuals.

Comment Period: Please submit comments by November 28, 2005.

Dated: October 6, 2005.
H. Dale Hall,
Regional Director, U.S. Fish and Wildlife Service, Albuquerque, New Mexico.

[FR Doc. 05-20489 Filed 10-12-05; 8:45 am]

BILLING CODE 4310-55-P